DEPARTMENT OF LABOR

Employment and Training Administration

[TA-W-65,718]

Weyerhaeuser Company, iLevel Dallas Sawmill, Dallas, OR; Notice of Termination of Investigation

Pursuant to Section 221 of the Trade Act of 1974, as amended, an investigation was initiated on March 31, 2009 in response to a petition filed by a company official on behalf of workers at Weyerhaeuser Company, iLevel Dallas Sawmill, Dallas, Oregon. The workers at the subject facility produced rough planed lumber.

The petitioner has requested that the petition be withdrawn. Consequently, the investigation has been terminated.

Signed in Washington, DC, this 18th day of May 2009.
Richard Church,
Certifying Officer, Division of Trade Adjustment Assistance.

[FR Doc. E9-15292 Filed 6-26-09; 8:45 am]

BILLING CODE 4510-FN-P